NATIONAL ARCHIVES AND RECORDS ADMINISTRATION

[NARA-2016-012]

Agency Information Collection Activities: Proposed Collection; Comment Request

AGENCY: National Archives and Records Administration (NARA).

ACTION: Notice.

SUMMARY: NARA gives public notice that it proposes to request extension of Identification Card Request, NA Form 6006, which will be used by NARA employees, on-site contractors, volunteers, Foundation members, Interns, and others in order to obtain a NARA Identification Card. We invite you to comment on these proposed information collections pursuant to the Paperwork Reduction Act of 1995.

DATES: We must receive written comments on or before March 21, 2016.

ADDRESSES: Send comments to Paperwork Reduction Act Comments (ISSD), Room 4400; National Archives and Records Administration; 8601 Adelphi Road; College Park, MD 20740-6001, fax them to 301-713-7409, or email them to tamee.fechhelm@nara.gov.

FOR FURTHER INFORMATION CONTACT: Contact Tamee Fechhelm by telephone at 301-837-1694 or fax at 301-713-7409 with requests for additional information or copies of the proposed information collections and supporting statements.

SUPPLEMENTARY INFORMATION: Pursuant to the Paperwork Reduction Act of 1995 (Pub. L. 104-13), NARA invites the public and other Federal agencies to comment on proposed information collections. The comments and suggestions should address one or more of the following points: (a) whether the proposed information collection is necessary for NARA to properly perform its functions; (b) NARA's estimate of the burden of the proposed information collection and its accuracy; (c) ways NARA could enhance the quality, utility, and clarity of the information it collects; (d) ways NARA could minimize the burden on respondents of collecting the information, including through information technology; and (e) whether this collection affects small businesses. We will summarize any comments you submit and include the summary in our request for Office of Management and Budget (OMB) approval. All comments will become a matter of public record. In this notice, NARA solicits comments concerning the following information collections:

Title: Identification Card Request

OMB number: 3095-0057

Agency form number: NA Form 6006

Type of review: Regular

Affected public: Individuals or households, Business or other for-profit, Federal government

Estimated number of respondents: 1,500

Estimated time per response: 3 minutes

Frequency of response: On occasion

Estimated total annual burden hours: 75 hours

Abstract: The collection of information is necessary as to comply with HSPD-12 requirements. Use of the form is authorized by 44 U.S.C 2104. At the NARA College Park facility, individuals receive a proximity card with the identification badge that is electronically coded to permit access to secure zones ranging from a general nominal level to stricter access levels for classified records zones. The proximity card system is part of the security management system that meets the accreditation standards of the Government intelligence agencies for storage of classified information and serves to comply with E.O. 12958.

Dated: January 12, 2016.
Swarnali Haldar,
Executive for Information Services/CIO.

[FR Doc. 2016-00925 Filed 1-15-16; 8:45 am]

BILLING CODE 7515-01-P